BUREAU OF CONSUMER FINANCIAL PROTECTION

[Docket No CFFPB-2015-0028]

Agency Information Collection Activities: Comment Request

AGENCY: Bureau of Consumer Financial Protection.

ACTION: Notice and request for comment.

SUMMARY: In accordance with the Paperwork Reduction Act of 1995 (PRA), the Consumer Financial Protection Bureau (Bureau) is requesting a new information collection titled, “Consumer Response Government and Congressional Boarding Forms.”

DATES: Written comments are encouraged and must be received on or before August 24, 2015 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments received will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: Consumer Response Government and Congressional Boarding Forms.

OMB Control Number: 3170-XXXX.

Type of Review: New collection (Request for a new OMB Control Number).

Affected Public: State, Local, and Tribal Governments; Federal Government.

Estimated Number of Respondents: 150.

Estimated Total Annual Burden Hours: 59.

Abstract: The Dodd-Frank Wall Street Reform and Consumer Protection Act, Public Law 111-203, Title X (the Act), provides for CFPB's consumer complaint handling function. Among other things, the CFPB is to facilitate the centralized collection of, monitoring of, and response to complaints concerning consumer financial products and services. The Act further provides for consumer complaint sharing and reporting to Congress. To fulfill this mandate, the CFPB has developed a portal for congressional users as part of its secure web portal offerings (the Congressional Portal). The Act further provides for consumer complaint information sharing between the CFPB and State and Federal agencies (Agencies). To fulfill this mandate, the CFPB has developed a portal for state users as part of its secure web portal offerings (the Government Portal). Through the Congressional Portal, congressional offices can view consumer submitted complaint data in a user-friendly format that allows easy identification of complaints currently active in the CFPB process, complaints referred to prudential federal regulators, and complaints that are closed or archived. The Portal includes features for congressional offices to export selected complaint data and search by company, consumer name, consumer financial product and more. It also allows congressional offices to identify whether a named company has responded to a complaint and view the company closure response category. Through the portal, Agencies can view consumer submitted complaint data in a user-friendly format that allows easy identification of complaints currently active in the CFPB process, complaints referred to a prudential federal regulator and other closed/archived complaints. The portal includes features for State agencies to export selected complaint data and search by company, consumer name, consumer financial product and more. It also allows State agencies to identify whether a named company has responded to a complaint and view the company closure response category.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: June 18, 2015.
Ashwin Vasan,
Chief Information Officer, Bureau of Consumer Financial Protection.

[FR Doc. 2015-15569 Filed 6-24-15; 8:45 am]

BILLING CODE 4810-AM-P